ENVIRONMENTAL PROTECTION AGENCY

[ER-FRL-8990-2]

Environmental Impacts Statements; Notice of Availability

Responsible Agency: Office of Federal Activities, General Information (202) 564-1399 or http://www.epa.gov/compliance/nepa/.

Weekly receipt of Environmental Impact Statements

Filed 04/26/2010 through 04/30/2010

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100157, Draft EIS, USFS, NV, Mountain City, Ruby Mountains, and Jarbidge Ranger Districts, Combined Travel Management Project, Implementation, Humboldt-Toiyabe National Forest, Elko and White Pine Counties, NV, Comment Period Ends: 06/21/2010, Contact: James Winfrey, 775-355-5308.

EIS No. 20100158, Final EIS, USFS, CA, Sierra National Forest Travel Management Plan, To Prohibit Motorized Vehicle Travel Off Designated National Forest Transportation System (NFIS) Roads, Trails and Area, Fresno, Mariposa, Madera Counties, CA, Wait Period Ends: 06/07/2010, Contact: Judith Tapia, 559-297-0706 Ext. 4938.

EIS No. 20100159, Draft EIS, NOAA, WA, Clark Springs Water Supply Habitat Conservation Plan, Application for Incidental Take Permits, City of Kent, Maple Valley, King County, WA, Comment Period Ends: 06/28/2010, Contact: Kelly Peterson, 253-856-5547.

EIS No. 20100160, Draft EIS, FHWA, TN, Pellissippi Parkway Extension (TN-162) Project, From TN-33 (Old Knoxville Highway) to US-321/TN-73/Larmar Alexander Parkway, Blount County, TN, Comment Period Ends: 06/21/2010, Contact: Charles J. O'Neill, 615-781-5770.

EIS No. 20100161, Final EIS, BLM, ID, Pocatello Resource Management Plan, To Provide Direction for Managing Public Lands in the Idaho Falls Districts, Pocatello Field Office (PFO), Implementation, Several Counties, ID, Wait Period Ends: 06/07/2010, Contact: Terry Lee Smith, 208-478-6347.

EIS No. 20100162, Draft EIS, USN, ME, Brunswick Naval Air Station, Disposal and Reuse, Implementation, Brunswick, ME, Comment Period Ends: 06/28/2010, Contact: Thomas H. Stephan, 215-897-4916.

EIS No. 20100163, Final EIS, BOP, 00, District of Columbia—III Project, Proposal for Contractor-Owned/Operated Facility to House Felons and Criminal Aliens, Possible Sites: Winton Site, Hertford County, NC and Princess Anne Site, Somerset County, MD, Wait Period Ends: 06/07/2010, Contact: Richard A. Cohen, 202-514-6470.

EIS No. 20100164, Draft EIS, BLM, 00, Southern California Edison's Eldorado-Ivanpah Transmission Line Project, Construction and Operation, Right-of-Way Application, Clark County, NV and San Bernardino County, CA, Comment Period Ends: 06/21/2010, Contact: Tom Hurshman, 970-240-5345.

EIS No. 20100165, Draft EIS, USFS, CA, Two Bit Vegetation Management Project, To Provide a Programmed Flow of Timber Products and to Sustain Diverse, Fire Resilient Ecosystems in Keeping with Historic Conditions, Happy Camp Ranger District, Klamath National Forest, Siskiyou County, CA, Comment Period Ends: 06/21/2010, Contact: John Allen, 530-493-1741.

EIS No. 20100166, Final EIS, USA, NM, Fort Bliss Army Growth and Force Structure Realignment Project, Implementing Land Use Changes and Improving Training Infrastructure to Support the Growth the Army (GTA) Stationing Decision, El Paso Country, TX and Dona Ana and Otero Counties, NM, Wait Period Ends: 06/07/2010, Contact: Jennifer Shore, 703-602-4238.

EIS No. 20100167, Final EIS, FHWA, AR, Conway Western Arterial Loop Construction, from South and West Sides of Conway, Faulkner County, AR, Wait Period Ends: 06/07/2010, Contact: Randal J. Looney, 501-324-6430.

Dated: May 4, 2010.
Robert W. Hargrove,
Director, NEPA Compliance Division, Office of Federal Activities.

[FR Doc. 2010-10861 Filed 5-6-10; 8:45 am]

BILLING CODE 6560-50-P